NATIONAL FOUNDATION FOR THE ARTS AND THE HUMANITIES

Institute of Museum and Library Services

Submission for OMB Review, Comment Request, Proposed Collection: Museums for All

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the renewal clearance of the Museums for All which includes clearance for Registration and Report Forms. A copy of the proposed information collection request can be obtained by contacting the individual listed below in the ADDRESSES section of this notice.

DATES: Written comments must be submitted to the office listed in the FOR FURTHER INFORMATION CONTACT section below on or before January 1, 2021.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, Telephone: 202-395-7316.

FOR FURTHER INFORMATION CONTACT: Christopher J. Reich, Chief Administrator, Office of Museum Services, Institute of Museum and Library Services, 955 L'Enfant Plaza North SW, Suite 4000, Washington DC 20024-2135. Mr. Reich can be reached by Telephone: 202-653-4685, or by email at creich@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: This notice proposes the clearance of Museums for All Registration and Report Forms.

The 60-day Notice was published in the Federal Register on 9/18/2020 (85 FR 58400). The agency received no comments in response to the posting.

The purpose of this collection is to support the administration of Museums for All, a program designed to increase access to museums for underserved audiences by inviting museums to allow Electronic Benefit Transfer (EBT) card holders to receive reduced-price admission to their facilities. This information collection will obtain registration data from participating museums, such as institution-level name, mailing address, web address, operating budget, and attendance, as well as contact information for the staff members administering the program. Additional reporting information, such as program attendance, sponsor involvement, partnerships, and feedback regarding experience with the program, will be collected on a quarterly basis to assess implementation of the program components, the efficacy of program materials, and the impact of the program.

Agency: Institute of Museum and Library Services.

Title: Museums for All.

OMB Control Number: 3137-0089.

Agency Number: 3137.

Affected Public: Museums.

Total Number of Respondents: 734.

Frequency of Response: Once per request for the Registration Form; four times per year for the Report Form.

Average Hours per Response: Registration Form: 0.5 hour; Report Form: 1 hour.

Total Burden Hours: 42 hours for the Registration Form; 2,600 hours for the Report Form.

Total Annualized Capital/Startup Costs: n/a.

Total Annual Cost Burden: $1,194.06 for the Registration Form; $73,918.00 for the Report Form.

Total Annual Federal Costs: $0.

Dated: November 30, 2020.
Kim Miller,
Senior Grants Management Specialist, Institute of Museum and Library Services.

[FR Doc. 2020-26625 Filed 12-2-20; 8:45 am]

BILLING CODE 7036-01-P